NUCLEAR REGULATORY COMMISSION

10 CFR Part 72

[NRC-2020-0274]

RIN 3150-AK57

List of Approved Spent Fuel Storage Casks: TN Americas LLC Standardized NUHOMS® Horizontal Modular Storage System, Certificate of Compliance No. 1004, Renewed Amendment No. 17

AGENCY: Nuclear Regulatory Commission.

ACTION: Direct final rule; confirmation of effective date.

SUMMARY: The U.S. Nuclear Regulatory Commission (NRC) is confirming the effective date of June 7, 2021, for the direct final rule that was published in the Federal Register on March 24, 2021. This direct final rule amended the TN Americas LLC Standardized NUHOMS® Horizontal Modular Storage System listing in the “List of approved spent fuel storage casks” to include Renewed Amendment No. 17 to Certificate of Compliance No. 1004. Renewed Amendment No. 17 revises the certificate of compliance technical specifications to add Heat Load Zoning Configurations 11-13 for the 61BTH Type 2 dry shielded canister and change the maximum assembly heat load from 1.2kW to 1.7kW.

DATES: The effective date of June 7, 2021, for the direct final rule published March 24, 2021 (86 FR 15563), is confirmed.

ADDRESSES: Please refer to Docket ID NRC-2020-0274 when contacting the NRC about the availability of information for this action. You may obtain publicly-available information related to this action by any of the following methods:

• Federal Rulemaking Website: Go to https://www.regulations.gov and search for Docket ID NRC-2020-0274. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate of compliance, the proposed changes to the technical specifications, and the preliminary safety evaluation report are available in ADAMS under Accession No. ML20308A485. The final amendment to the certificate of compliance, final changes to the technical specifications, and final safety evaluation report can also be viewed in ADAMS under Accession No. ML21109A325.

• Attention: The PDR, where you may examine and order copies of public documents, is currently closed. You may submit your request to the PDR via email at pdr.resource@nrc.gov or call 1-800-397-4209 between 8:00 a.m. and 4:00 p.m. (EST), Monday through Friday, except Federal holidays.

FOR FURTHER INFORMATION CONTACT: Alexa Sieracki, Office of Nuclear Material Safety and Safeguards, U.S. Nuclear Regulatory Commission, Washington, DC 20555-0001; telephone: 301-415-7509; email: Alexa.Sieracki@nrc.gov.

SUPPLEMENTARY INFORMATION: On March 24, 2021 (86 FR 15563), the NRC published a direct final rule amending its regulations in part 72 of title 10 of the Code of Federal Regulations to revise the TN Americas LLC Standardized NUHOMS® Horizontal Modular Storage System listing within the “List of approved spent fuel storage casks” to include Renewed Amendment No. 17 to Certificate of Compliance No. 1004. Renewed Amendment No. 17 revises the certificate of compliance technical specifications to 1) add Heat Load Zoning Configurations 11-13 for the 61BTH Type 2 dry shielded canister and 2) change the maximum assembly heat load from 1.2kW to 1.7kW. This amendment also makes minor clarifications to the certificate of compliance.

In the direct final rule, the NRC stated that if no significant adverse comments were received, the direct final rule would become effective on June 7, 2021. The NRC did not receive any comments on the direct final rule. Therefore, this direct final rule will become effective as scheduled.

Dated: May 11, 2021
For the Nuclear Regulatory Commission.
Cindy K. Bladey,
Chief, Regulatory Analysis and Rulemaking Support Branch, Division of Rulemaking, Environmental, and Financial Support, Office of Nuclear Material Safety and Safeguards.

[FR Doc. 2021-10281 Filed 5-14-21; 8:45 am]

BILLING CODE 7590-01-P